DEPARTMENT OF JUSTICE

Drug Enforcement Administration

[Docket No. DEA-392]

Importer of Controlled Substances Registration: R & D Systems, Inc.

ACTION: Notice of registration.

SUMMARY: R & D Systems, Inc., applied to be registered as an importer of certain basic classes of controlled substances. The DEA grants R & D Systems, Inc., registration as an importer of those controlled substances.

SUPPLEMENTARY INFORMATION: By notice dated May 28, 2014, and published in the Federal Register on June 4, 2014, FR 79 32318, R & D Systems, Inc., 614 McKinley Place NE., Minneapolis, Minnesota 55413, applied to be registered as an importer of certain basic classes of controlled substances. No comments or objections were submitted for this notice.

The Drug Enforcement Administration (DEA) has considered the factors in 21 U.S.C. 823, 952(a) and 958(a) and determined that the registration of R & D Systems, Inc., to import the basic classes of controlled substances is consistent with the public interest and with United States obligations under international treaties, conventions, or protocols in effect on May 1, 1971. The DEA investigated the company's maintenance of effective controls against diversion by: Inspecting and testing the company's physical security systems, verifying the company's compliance with state and local laws, and reviewing the company's background and history.

Therefore, pursuant to 21 U.S.C. 952(a) and 958(a), and in accordance with 21 CFR 1301.34, the above-named company is granted registration as an importer of the basic classes of controlled substances:

Controlled substance | Schedule
Mephedrone (4-Methyl-N-methylcathinone) (1248) | I
1-Pentyl-3-(1-naphthoyl)indole) (7118) | I
5-(1,1-Dimethylheptyl)-2-[(1R,3S)-3-hydroxycyclohexyl-phenol) (7297) | I
Marihuana (7360) | I
Tetrahydrocannabinols (7370) | I
4-Bromo-2,5-dimethoxyamphetamine (7391) | I
3,4-Methylenedioxymethamphetamine (7405) | I
Dimethyltryptamine (7435) | I
Psilocyn (7438) | I
Amphetamine (1100) | II
Methylphenidate (1724) | II
Pentobarbital (2270) | II
Phencyclidine (7471) | II
Cocaine (9041) | II
Oxycodone (9143) | II
Thebaine (9333) | II
Fentanyl (9801) | II

The company plans to import the listed controlled substances in dosage form to distribute to researchers.

In reference to drug codes 7360 and 7370, the company plans to import a synthetic cannabidiol and a synthetic tetrahydrocannabinol. No other activity for these drug codes is authorized for this registration.

The import of the above listed basic classes of controlled substances would be granted only for analytical testing and clinical trials. This authorization does not extend to the import of a finished Food and Drug Administration approved or non-approved dosage form for commercial distribution in the United States.

Dated: September 26, 2014.
Joseph T. Rannazzisi,
Deputy Assistant Administrator.

[FR Doc. 2014-23829 Filed 10-6-14; 8:45 am]

BILLING CODE 4410-09-P